DEPARTMENT OF THE INTERIOR

Bureau of Ocean Energy Management, Regulation and Enforcement

[Docket ID No. BOEM-2010-0066]

Agency Information Collection Activity: 1010-NEW, Upcoming Projects Considering the Use of Outer Continental Shelf (OCS) Sand, Gravel, and Shell Resources for Coastal Restoration and/or Beach Nourishment, Submitted for Office of Management and Budget (OMB) Review; Comment Request

AGENCY: Bureau of Ocean Energy Management, Regulation and Enforcement (BOEMRE), Interior.

ACTION: Notice of a new information collection (1010-NEW).

SUMMARY: To comply with the Paperwork Reduction Act of 1995 (PRA), we are notifying the public that we have submitted to OMB an information collection request (ICR) for approval of the paperwork requirements that respondents will submit to BOEMRE to obtain OCS sand, gravel, and shell resources for use in shore protection and beach and coastal restoration, which is considered a noncompetitive negotiated agreement program. This notice also provides the public a second opportunity to comment on the paperwork burden of these program requirements.

DATES: Submit written comments by February 18, 2011.

ADDRESSES: Submit comments by either fax (202) 395-5806 or e-mail (OIRA_DOCKET@omb.eop.gov) directly to the Office of Information and Regulatory Affairs, OMB, Attention: Desk Officer for the Department of the Interior (1010-NEW). Please also submit a copy of your comments to BOEMRE by any of the means below.

• Electronically: go to http://www.regulations.gov. In the entry titled “Enter Keyword or ID,” enter BOEM-2010-0066 then click search. Follow the instructions to submit public comments and view supporting and related materials available for this collection. BOEMRE will post all comments.

• E-mail cheryl.blundon@boemre.gov. Mail or hand-carry comments to Department of the Interior; Bureau of Ocean Energy Management, Regulation and Enforcement; Attention: Cheryl Blundon; 381 Elden Street, MS-4024; Herndon, Virginia 20170-4817. Please reference ICR 1010-NEW in your comment and include your name and return address.

FOR FURTHER INFORMATION CONTACT: Cheryl Blundon, Regulations and Standards Branch, (703) 787-1607 to obtain a copy, at no cost, of the ICR and the authority that requires the subject collection of information. Information and procedures for obtaining sand, gravel, and shell resources can be found on the BOEMRE Web site http://www.boemre.gov/sandandgravel or by contacting the Marine Minerals Program at (703) 787-1215.

SUPPLEMENTARY INFORMATION: Title: Upcoming Projects Considering the Use of Outer Continental Shelf Sand, Gravel, and Shell Resources for Coastal Restoration and/or Beach Nourishment.

OMB Control Number: 1010-NEW.

Abstract: BOEMRE, under the authority delegated by the Secretary of the Interior, is authorized pursuant to section 8(k)(2) of the OCS Lands Act (43 U.S.C. 1337(k)(2)), to convey rights to OCS sand, gravel, and shell resources by noncompetitive negotiated agreement (NNA) for use in shore protection and beach and coastal restoration, or for use in construction projects funded, in whole or part by, or authorized by the Federal Government.

Since 1995, 22 shore protection or beach and coastal restoration projects have been completed using OCS sand resources. Recently, the program has seen an increase in projects and need for OCS resources due to the decreasing amounts of sand located in State waters. Because of this increase, BOEMRE needed to develop a mechanism to plan for future projects and anticipated workload. Therefore, BOEMRE will issue an annual call for information about resources and locations from interested parties to develop an annual NNA Project Schedule. The NNA Project Schedule will help BOEMRE determine appropriate future resource allocation, conduct environmental analyses, develop NNAs, and meet all necessary environmental and legal requirements.

Responses are submitted to BOEMRE annually and are to obtain or retain a benefit (43 U.S.C. 1337). No questions of a sensitive nature are asked. BOEMRE will protect any proprietary information according to the Freedom of Information Act (5 U.S.C. 552) and its implementing regulations (43 CFR 2).

Frequency: Annually.

Description of Respondents: Approximately 9 States and 50 counties associated with the States.

Estimated Reporting and Recordkeeping Hour Burden: The estimated annual hour burden for this information collection is a total of 95 hours. Individual County Compilation: 50 counties × 1 hour/county = 50 hours; Individual State Compilation: 9 States × 5 hours/State = 45 hours (50 county hours and 45 State hours = 95 total burden hours). In calculating the burdens, we assumed that respondents perform certain requirements in the normal course of their activities. We consider these to be usual and customary and took that into account in estimating the burden.

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on September 7, 2010, we published a Federal Register notice (75 FR 54369) announcing that we would submit this ICR to OMB for approval. The notice provided the required 60-day comment period. We received one comment in response to these efforts, but the comment did not pertain to the paperwork burden associated with the ICR.

If you wish to comment in response to this notice, you may send your comments to the offices listed under the ADDRESSES section of this notice. The OMB has up to 60 days to approve or disapprove the information collection but may respond after 30 days. Therefore, to ensure maximum consideration, OMB should receive public comments by February 18, 2011.

Public Availability of Comments: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: December 9, 2010.
Doug Slitor,
Acting Chief, Office of Offshore Regulatory Programs.

[FR Doc. 2011-1063 Filed 1-18-11; 8:45 am]

BILLING CODE 4310-MR-W-P